DEPARTMENT OF VETERANS AFFAIRS

[OMB Control No. 2900-0216]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 7, 2005.

For Further Information or a Copy of the Submission Contact: Denise McLamb, Records Management Service (005E3), Department of Veterans Affairs, 810 Vermont Avenue, NW., Washington, DC 20420, (202) 273-8030, FAX (202) 273-5981 or e-mail: denise.mclamb@mail.va.gov. Please refer to “OMB Control No. 2900-0216.”

Send comments and recommendations concerning any aspect of the information collection to VA's OMB Desk Officer, OMB Human Resources and Housing Branch, New Executive Office Building, Room 10235, Washington, DC 20503, (202) 395-7316. Please refer to “OMB Control No. 2900-0216” in any correspondence.

SUPPLEMENTARY INFORMATION: Title: Application for Accrued Amounts Due a Deceased Beneficiary, VA Form 21-601.

OMB Control Number: 2900-0216.

Type of Review: Revision of a currently approved collection.

Abstract: The information collected on VA Form 21-601 is used to determine claimant's entitlement to accrued benefits due a veteran but not paid prior to the veteran's death. Each survivor claiming a share of the accrued benefits must complete a separate VA Form 21-601; however, if there are no living survivors who are entitled on the basis of relationship, accrued benefits may be payable as reimbursement to the person or persons who bore the expenses of the veteran's last illness and burial expenses.

An agency may not conduct or sponsor, and a person is not required to respond to a collection of information unless it displays a currently valid OMB control number. The Federal Register Notice with a 60-day comment period soliciting comments on this collection of information was published on February 4, 2005, at page 6078.

Affected Public: Individuals or households and Business or other for-profit.

Estimated Annual Burden: 2,300 hours.

Estimated Average Burden Per Respondent: 30 minutes.

Frequency of Response: One time.

Estimated Number of Respondents: 4,600.

Dated: May 26, 2005.
By direction of the Secretary.
Loise Russell,
Director, Records Management Service.

[FR Doc. E5-2901 Filed 6-6-05; 8:45 am]

BILLING CODE 8320-01-P